DEPARTMENT OF HEALTH AND HUMAN SERVICES

Food and Drug Administration

21 CFR Part 573

[Docket No. FDA-2021-F-0201]

Ag Chem Resources, LLC; Filing of Food Additive Petition (Animal Use); Correction

AGENCY: Food and Drug Administration, Department of Health and Human Services.

ACTION: Notification of petition; correction.

SUMMARY: The Food and Drug Administration (FDA or we) is correcting a notification entitled “Ag Chem Resources, LLC; Filing of Food Additive Petition (Animal Use)” that appeared in the Federal Register of November 27, 2020. The document was published with the incorrect docket number. This document corrects that error.

DATES: This document is publishing in the Federal Register on April 26, 2021.

FOR FURTHER INFORMATION CONTACT: Chelsea Cerrito, Center for Veterinary Medicine, Food and Drug Administration, 7519 Standish Pl., Rockville, MD 20855, 240-402-6729, Chelsea.Cerrito@fda.hhs.gov.

SUPPLEMENTARY INFORMATION:

Correction

In the Federal Register of Friday, November 27, 2020 (85 FR 75971), in FR Doc. 2020-26049, the following correction is made:

On page 75971, in the third column, in the headings of the document, “[Docket No. FDA-2020-N-2111]” is corrected to read “[Docket No. FDA-2021-F-0201]”.

Dated: April 15, 2021.
Lauren K. Roth,
Acting Principal Associate Commissioner for Policy.

[FR Doc. 2021-08241 Filed 4-23-21; 8:45 am]

BILLING CODE 4164-01-P